DEPARTMENT OF COMMERCE

International Trade Administration

Civil Nuclear Trade Advisory Committee: Meeting

AGENCY: Civil Nuclear Trade Advisory Committee, International Trade Administration, U.S. Department of Commerce

ACTION: Notice of Federal Advisory Committee Meeting.

SUMMARY: This notice sets forth the schedule and proposed agenda for a meeting of the Civil Nuclear Trade Advisory Committee (CINTAC).

DATES: The meeting is scheduled for Thursday, August 6, 2020 from 10:00 a.m. to 12:00 p.m. Eastern Daylight Time (EDT). The deadline for members of the public to register to participate, including requests to make comments during the meeting and for auxiliary aids, or to submit written comments for dissemination prior to the meeting, is 5:00 p.m. EDT on Friday, July 31, 2020.

ADDRESSES: The meeting will be held via conference call. The call-in number and passcode will be provided by email to registrants. Requests to register to participate (including to speak or for auxiliary aids) and any written comments should be emailed to Jonathan Chesebro, Senior Nuclear Trade Specialist at the U.S. Department of Commerce's Office of Energy & Environmental Industries at Jonathan.Chesebro@trade.gov.jonathan.chesebro@trade.gov.

FOR FURTHER INFORMATION CONTACT: Mr. Jonathan Chesebro, Senior Nuclear Trade Specialist at the U.S. Department of Commerce's Office of Energy & Environmental Industries at Jonathan.Chesebro@trade.gov.

SUPPLEMENTARY INFORMATION: Background: The Secretary of Commerce established the CINTAC under discretionary authority and in accordance with the Federal Advisory Committee Act (5 U.S.C. App.) in response to an identified need for consensus advice from U.S. industry to the U.S. Government regarding the development and administration of programs to expand U.S. exports of civil nuclear goods and services in accordance with applicable U.S. laws and regulations, including advice on how U.S. civil nuclear goods and services export policies, programs, and activities will affect the U.S. civil nuclear industry's competitiveness and ability to participate in the international market.

The Department of Commerce renewed the CINTAC charter on August 10, 2018. This meeting is being convened under the sixth charter of the CINTAC.

Topics to be considered: The agenda for the Thursday, August 6, 2020 CINTAC meeting is as follows:

10:00 a.m.—11:45 a.m. Discussion of potential recommendations prior to the August 10, 2020 expiration of the Committee's current two-year charter term.

11:45 a.m.—12:00 p.m.—Public Comment Period.

Members of the public wishing to attend the meeting must notify Mr. Jonathan Chesebro at the contact information above by 5:00 p.m. EDT on Friday, July 31, 2020 in order to pre-register to participate. Please specify any requests for reasonable accommodation at least five business days in advance of the meeting. Last minute requests will be accepted, but may not be possible to fill. A limited amount of time will be available for brief oral comments from members of the public attending the meeting. To accommodate as many speakers as possible, the time for public comments will be limited to two (2) minutes per person, with a total public comment period of 15 minutes. Individuals wishing to reserve speaking time during the meeting must contact Mr. Chesebro and submit a brief statement of the general nature of the comments and the name and address of the proposed participant by 5:00 p.m. EDT on Friday, July 31, 2020. If the number of registrants requesting to make statements is greater than can be reasonably accommodated during the meeting, ITA may conduct a lottery to determine the speakers.

Any member of the public may submit written comments concerning the CINTAC's affairs at any time before and after the meeting. Comments may be emailed to Jonathan Chesebro, Senior Nuclear Trade Specialist at the U.S. Department of Commerce's Office of Energy & Environmental Industries at Jonathan.Chesebro@trade.gov. For consideration during the meeting, and to ensure transmission to the Committee prior to the meeting, comments must be received no later than 5:00 p.m. EDT on Friday, July 31, 2020. Comments received after that date will be distributed to the members but may not be considered at the meeting.

Copies of CINTAC meeting minutes will be available within 90 days of the meeting.

Dated: July 17, 2020.
Man Cho,
Deputy Director, Office of Energy and Environmental Industries.

[FR Doc. 2020-15885 Filed 7-22-20; 8:45 am]

BILLING CODE 3510-DR-P